DEPARTMENT OF ENERGY

Federal Energy Regulatory Commission

[Project No. 2114-126]

Public Utility District No. 2 of Grant County, WA; Notice of Application for Approval of Contracts for the Sale of Power for a Period Extending Beyond the Term of the License

August 5, 2005.

Take notice that on July 8, 2005, Public Utility District No. 2 of Grant County, Washington (Grant PUD) filed with the Commission an application for approval of contracts for the sale of power from its licensed Priest Rapids Project No. 2114, for a period from the expiration of its existing license on October 31, 2005 through the term of any new license issued to it for the project. The project is located on the Columbia River in Chelan, Douglas, Kittitas, Grant, Yakima, and Benton Counties, Washington.

Section 22 of the FPA, 16 U.S.C. 815, provides that contracts for the sale and delivery of power for periods extending beyond the termination date of a license may be entered into upon the joint approval of the Commission and the appropriate state public service Commission or other similar authority in the state in which the sale or delivery of power is made. Grant PUD has submitted for Commission approval three contracts for the sale of power from the project which would extend beyond the term of the existing license (Priest Rapids Product Sales Contract, Additional Product Sales Agreement, and Exchange Agreement). Grant PUD asserts that approval of the submitted contract is in the public interest.

Comments and the request for approval of the power sales contract or motions to intervene may be filed with the Commission no later than August 15, 2005, and replies to comments no later than August 21, 2005. The Commission's Rules of Practice require all intervenors filing documents with the Commission to serve a copy of that document on each person on the official service list for the project. Further, if an intervenor files comments or documents with the Commission relating to the merits of an issue that may affect the responsibilities of a particular resource agency, they must also serve a copy of the document on that resource agency.

All documents (an original and eight copies) must be filed with: Magalie R. Salas, Secretary, Federal Energy Regulatory Commission, 888 First Street, NE., Washington, DC 20426. Please put the project name “Priest Rapids Project 2114” on the first page of all documents.

Comments may be filed electronically via the Internet in lieu of paper. The Commission strongly encourages electronic filings. See 18 CFR 385.2001(a)(1)(iii) and the instructions on the Commission's Web site http://www.ferc.gov under the “e-Filing” link.

A copy of the application is available for review in the Commission's Public Reference Room or may be viewed on the Commission's Web site http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this project or other pending projects. For assistance, contact FERC Online Support.

Magalie R. Salas,
Secretary.

[FR Doc. E5-4367 Filed 8-11-05; 8:45 am]

BILLING CODE 6717-01-P